FEDERAL COMMUNICATIONS COMMISSION

[CC Docket No. 99-294; FCC 03-331]

Federal-State Joint Conference on Advanced Telecommunications Services

AGENCY: Federal Communications Commission.

ACTION: Notice.

SUMMARY: This document increases the size of the Federal-State Joint Conference on Advanced Telecommunications Services (“Joint Conference”) to include representatives from up to seven state commissions, in order to enhance its effectiveness and ensure a diversity of viewpoint. It also fills vacancies created by the addition of two state seats, as well as recent departures from the Joint Conference. These measures will allow greater federal-state cooperation, which is critical to facilitating the widespread deployment of, and access to, advanced services.

FOR FURTHER INFORMATION CONTACT: Jane Phillips, Intergovernmental Affairs, Consumer & Governmental Affairs Bureau, (202) 418-1761.

SUPPLEMENTARY INFORMATION: This is a summary of the Commission's Order, FCC 03-331, adopted December 19, 2003, and released December 23, 2003. The complete text of the Order is available on the Commission's Internet site, at www.fcc.gov and is also available for inspection and copying during normal business hours in the FCC Reference Information Center, Courtyard Level, 445 12th Street, SW, CY-A257, Washington, DC. The text may also be purchased from the Commission's copy contractor, Qualex International, Portals II, 445 12th Street, SW, Room CY-B402, Washington, DC 20554 (telephone 202-863-2893). To request materials in accessible formats for people with disabilities (Braille, large print, electronic files, audio format), send an e-mail to fcc504@fcc.gov or call the Consumer & Governmental Affairs Bureau at (202) 418-0531 (voice), (202) 418-7365 (TTY). This Order can also be downloaded in text and ASCII formats at http://www.fcc.gov/jointconference/.

Synopsis

The Joint Conference was convened in 1999 as part of the Commission's ongoing efforts to ensure that advanced services are deployed as rapidly as possible to all Americans. It serves as a forum for an ongoing dialogue between the Commission, state regulators, and local and regional entities regarding the deployment of advanced telecommunications capabilities, and is comprised of commissioners from state public utilities commissions and from the Federal Communications Commission.

The Joint Conference is responsible for monitoring and collecting data regarding the practices of carriers as they deploy advanced services throughout the nation. It has also held a series of field hearings across the country and has conducted Broadband Summits to examine how best to accelerate the deployment of affordable advanced services to rural and other under-served telecommunications users. Through these and other activities, the Joint Conference has worked cooperatively to promote the widespread deployment of advanced services.

To help the Joint Conference achieve its broad mandate, and pursuant to section 410(b) of the Communications Act of 1934, 47 U.S.C. 410(b), the Order appoints Commissioner Susan P. Kennedy of the California Public Utilities Commission, Thomas L. Welch, Chairman of the Maine Public Utilities Commission, and Deborah Tate, Chairman of the Tennessee Regulatory Authority, to serve on the Federal-State Joint Conference on Advanced Telecommunications Services. The Order also appoints Bob Rowe, Chairman of the Montana Public Service Commission, formerly a non-voting member, to serve as a full member of the Federal-State Joint Conference on Advanced Telecommunications Services.

The number of members on the Joint Conference has been increased in order to augment diversity in Joint Conference membership and thereby widen the range of viewpoints and expertise. This is critical to informed decision-making as federal and state regulators join forces to encourage the deployment of advanced telecommunications services. Increasing the size of the Joint Conference is also consistent with the approach the Commission has taken with other joint boards, where the complexity and magnitude of the board's charter warranted a relatively large membership in order to address the broad range of issues presented.

The Order requires that a copy of all filings in CC Docket 99-294 be served on each of the following members of the Joint Conference at the following addresses:

• The Honorable Michael K. Powell, FCC Chairman, Federal Communications Commission, 445 12th Street, SW, Washington, DC 20554.

• The Honorable Kevin J. Martin, Commissioner, Chair, Federal State Joint Conference on Advanced Telecommunications Services, Federal Communications Commission, 445 12th Street, SW, Washington, DC 20554.

• The Honorable Kathleen Q. Abernathy, Commissioner, Federal Communications Commission, 445 12th Street, SW, Washington, DC 20554.

• The Honorable Michael J. Copps, Commissioner, Federal Communications Commission, 445 12th Street, SW, Washington, DC 20554.

• The Honorable Jonathan S. Adelstein, Commissioner, Federal Communications Commission, 445 12th Street, SW, Washington, DC 20554.

• The Honorable G. Nanette Thompson, Commissioner, Regulatory Commission of Alaska, 701 West Eight Avenue, Suite 300, Anchorage, Alaska 99501-3469.

• The Honorable Irma Muse Dixon, Commissioner, Louisiana Public Service Commission, Office of the Commissioner, District 3—New Orleans, 1600 Canal Street, Suite 1400, New Orleans, Louisiana 70112.

• The Honorable Jo Anne Sanford, Chair, North Carolina Utilities Commission, 430 North Salisbury Street, Dobbs Building, Raleigh, NC 27603-5918.

• The Honorable Bob Rowe, Chairman, Montana Public Service Commission, 1701 Prospect Avenue, PO Box 20261, Helena, MT 59620-2601.

• The Honorable Susan P. Kennedy, Commissioner, California Public Utilities Commission, 505 Van Ness Ave., San Francisco, CA 94102.

• The Honorable Thomas L. Welch, Chairman, Maine Public Utilities Commission, 242 State Street, 18 State House Station, Augusta, ME 04333-0018.

• The Honorable Deborah T. Tate, Chairman, Tennessee Regulatory Authority, 460 James Robertson Parkway, Nashville, Tennessee 37243.

Ordering Clauses

Pursuant to section 410(b) of the Communications Act of 1934, as amended, 47 U.S.C. 410(b), the Honorable Susan P. Kennedy, Commissioner of the California Public Utilities Commission, the Honorable Thomas L. Welch, Chairman of the Maine Public Utilities Commission, and Deborah Tate, Chairman of the Tennessee Regulatory Authority, are appointed to the Federal-State Joint Conference on Advanced Telecommunications Services.

Pursuant to section 410(b) of the Communications Act of 1934, as amended, 47 U.S.C. 410(b), the Honorable Bob Rowe, Chairman of the Montana Public Service Commission, formerly a non-voting member, is appointed as a full member to the Federal-State Joint Conference on Advanced Telecommunications Services.

Federal Communications Commission.
Marlene H. Dortch,
Secretary.

[FR Doc. 04-2831 Filed 2-9-04; 8:45 am]

BILLING CODE 6712-01-P